DEPARTMENT OF THE TREASURY

Office of Thrift Supervision

Vantus Bank Sioux City, IA; Notice of Appointment of Receiver

Notice is hereby given that, pursuant to the authority contained in section 5(d)(2) of the Home Owners' Loan Act, the Office of Thrift Supervision (OTS) has duly appointed the Federal Deposit Insurance Corporation as sole Receiver for Vantus Bank, Sioux City, Iowa (OTS No. 00190), on September 4, 2009.

Dated: September 9, 2009.
By the Office of Thrift Supervision.
Sandra E. Evans,
Federal Register Liaison.

[FR Doc. E9-22159 Filed 9-15-09; 8:45 am]

BILLING CODE 6720-01-M